DEPARTMENT OF HEALTH AND HUMAN SERVICES

Centers for Disease Control and Prevention

[Docket No. CDC-2016-0110]

Draft Guideline Update—CDC Recommendations on Use of Chlorhexidine-Impregnated Dressings for Prevention of Intravascular Catheter-Related Infections

AGENCY: Centers for Disease Control and Prevention (CDC), Department of Health and Human Services (DHHS).

ACTION: Notice of availability and request for public comments.

SUMMARY: The Centers for Disease Control and Prevention (CDC), located within the Department of Health and Human Services (HHS) announces the opening of a docket to obtain public comment on the Draft Update of CDC Recommendations on Use of Chlorhexidine-Impregnated Dressings for Prevention of Intravascular Catheter-Related Infections (Draft Recommendation Update). The Draft Recommendation Update addresses new and updated strategies for the prevention of intravascular catheter-related infections in healthcare settings. CDC is providing a supporting appendix in the docket that includes primary evidence, study evaluation, and data evaluation tables that were used in developing the Draft Recommendation Update.

DATES: Comments must be received on or before January 24, 2017.

ADDRESSES: You may submit comments, identified by Docket No. CDC-2016-0110 by any of the following methods:

• Federal eRulemaking Portal: http://www.regulations.gov. Follow the instructions for submitting comments.

• Mail: Division of Healthcare Quality Promotion, National Center for Emerging and Zoonotic Infectious Diseases, Centers for Disease Control and Prevention, 1600 Clifton Road NE., MS-A07, Atlanta, GA 30329, Attn: Docket No. CDC-2016-0110.

Instructions: All submissions received must include the agency name and Docket Number. All relevant comments received will be posted without change to http://regulations.gov, including any personal information provided. For access to the docket to read background documents or comments received, go to http://www.regulations.gov.

Written materials identified by Docket No. CDC-2016-0110, will be available for public inspection Monday through Friday, except for legal holidays, 9 a.m. until 4:30 p.m. Eastern Standard Time, at CDC Library, 1600 Clifton Road NE., Atlanta, Georgia 30329. Please call ahead to (404) 639-1717 and request a Library representative to schedule your visit. All public comments will be reviewed and considered prior to finalizing the Draft Recommendation Update.

FOR FURTHER INFORMATION CONTACT: Contact Erin Stone, Division of Healthcare Quality Promotion, National Center for Emerging and Zoonotic Infectious Diseases, Centers for Disease Control and Prevention, 1600 Clifton Road NE., Mailstop A-31, Atlanta, Georgia 30329; Telephone: (404) 639-4000.

SUPPLEMENTARY INFORMATION: Since 2014 CDC has collaborated with national partners, academicians, public and private health professionals, and other partners to create this Draft Recommendation Update. CDC received input from the Healthcare Infection Control Practices Advisory Committee (HICPAC) throughout the development of the Draft Recommendation Update. HICPAC includes representatives from public health, infectious diseases, regulatory and other federal agencies, professional societies, and other stakeholders. This Draft Recommendation Update is not a federal rule or regulation.

The Draft Recommendation Update is designed for use by infection prevention staff, healthcare epidemiologists, administrators, nurses, and personnel responsible for developing, implementing, and evaluating infection prevention and control programs for healthcare settings across the continuum of care. The recommendations contained in the Draft Recommendation Update are based on a targeted systematic review of the best available evidence for a specific topic related to the prevention of intravascular catheter-related infections.

Dated: November 21, 2016.
Sandra Cashman,
Executive Secretary, Centers for Disease Control and Prevention.

[FR Doc. 2016-28385 Filed 11-23-16; 8:45 am]

BILLING CODE 4163-18-P